DEPARTMENT OF STATE

[Public Notice: 12304]

Notice of Public Meeting in Preparation for the Eleventh Session of the International Maritime Organization (IMO) Sub-Committee on Pollution Prevention and Response (PPR 11)

The Department of State will conduct a public meeting at 1:00 p.m. EST on Tuesday, February 06, 2024, virtually via Microsoft Teams. The primary purpose of the meeting is to prepare for the eleventh session of the IMO Sub-Committee on Pollution Prevention and Response (PPR 11) to be held at IMO Headquarters in London, United Kingdom from February 19th to 23rd, 2024.

Members of the public may participate up to the capacity of the Microsoft Teams line. To RSVP, participants should contact the meeting coordinator, Ms. Nicole M. Schindler, by email at Nicole.M.Schindler@uscg.mil. Ms. Schindler will provide access information for the virtual attendance.

—The agenda items to be considered at this meeting mirror those to be considered at PPR 11, and include:

—Adoption of the agenda;

—Decisions of other IMO bodies;

—Safety and pollution hazards of chemicals and preparation of consequential amendments to the IBC Code;

—Amendments to MARPOL Annex II in order to improve the effectiveness of cargo tank stripping, tank washing operations and prewash procedures for products with a high melting point and/or high viscosity;

—Development of guidance on matters relating to in-water cleaning;

—Reduction of the impact on the Arctic of Black Carbon emissions from international shipping;

—Evaluation and harmonization of rules and guidance on the discharge of discharge water from EGCS into the aquatic environment, including conditions and areas;

—Development of amendments to MARPOL Annex VI and the NOX Technical Code on the use of multiple engine operational profiles for a marine diesel engine test cycles;

—Development of a guide compiling best practices to develop local-level marine spill contingency plans to aid States, particularly local governments and key institutions, in implementing the OPRC Convention and OPRC-HNS Protocol;

—Development of measures to reduce risks of use and carriage of heavy fuel oil as fuel by ships in Arctic waters (7.11);

—Review of the IBTS Guidelines and amendments to the IOPP Certificate and Oil Record Book (2.13);

—Revision of MARPOL Annex IV and associated guidelines (1.26);

—Follow-up work emanating from the Action Plan to address marine plastic litter from ships (4.3);

—Unified interpretation of provisions of IMO environment-related conventions (7.1);

—Biennial agenda and provisional agenda for PPR 11;

—Election of Chair and Vice-Chair for 2024;

—Any other business; and

—Report to the Marine Environment Protection Committee.

Please note: The IMO may, on short notice, adjust the PPR 11 agenda to accommodate the constraints associated with the meeting format. Any changes to the agenda will be reported to those who RSVP.

Those who plan to participate should contact the meeting coordinator, Ms. Nicole M. Schindler, by email at Nicole.M.Schindler@uscg.mil, by phone at (202) 372-1403, or in writing at United States Coast Guard (CG-OES), ATTN: Ms. Nicole M. Schindler, 2703 Martin Luther King Jr. Ave. SE, Stop 7509, Washington DC 20593-7509, not later than Thursday, February 1, 2024.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-00975 Filed 1-18-24; 8:45 am]

BILLING CODE 4710-09-P